DEPARTMENT OF COMMERCE

Census Bureau

Agency Information Collection Activities; Submission to the Office of Management and Budget (OMB) for Review and Approval; Comment Request; Ask U.S. Panel

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new information collection of the Ask U.S. Panel prior to the submission of the information collection request (ICR) to OMB for approval.

DATES: To ensure consideration, comments regarding this proposed information collection must be received on or before February 7, 2022.

ADDRESSES: Interested persons are invited to submit written comments by email to adrm.pra@census.gov. Please reference Ask U.S. Panel in the subject line of your comments. You may also submit comments, identified by Docket Number USBC-2021-0024, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Jennifer Hunter Childs, Assistant Center Chief, 202-603-4927 and Jennifer.hunter.childs@census.gov.

SUPPLEMENTARY INFORMATION:

I. Abstract

The Ask U.S. Panel (“the Panel”) will be a probability-based nationwide nationally representative survey panel for tracking public opinion on a variety of topics of interest to numerous federal agencies and their partners, and for conducting experimentation on alternative question wording and methodological approaches. The Ask U.S. Panel may also be used to collect nationwide rapid-response data to address emerging data needs.

The Panel will be developed through a multi-year effort. The first year of data collection will focus on conducting a large-scale field Pilot Test. Nationally representative data collection based on a probability sample of US adults will begin in the year following the pilot test.

The goal of the Ask U.S. Panel is to ensure availability of frequent data collection for nationwide estimates on a variety of topics and a variety of subgroups of the population, meeting standards for transparent quality reporting of the Federal Statistical Agencies and the Office of Management and Budget (OMB).

The Panel is an interagency effort, with representatives from Census, the Economic Research Service, the Bureau of Labor Statistics, the National Center for Health Statistics, the National Center for Science and Engineering Statistics, the National Center for Education Statistics, the Department of Defense, Department of Transportation, Department of Labor and the Social Security Administration guiding its design, content and methodological rigor, that will be used to meet data needs across the federal statistical system.

Data will be collected in two distinct phases. In Phase 1, ten percent of the panel (1,700 people) will be recruited and surveyed as a proof-of-concept to refine methods. In Phase 2, the remainder of the panel (17,000 people) will be recruited and surveyed using methodology refined during Phase 1. This package describes both sets of data collection.

II. Method of Collection

Using RTI's address-based frame, a probability sample of addresses in the United States (excluding territories) will be taken with oversamples of specific populations of interest, including households who face food insecurity and households who speak Spanish as a first language. A separate sample of active-duty military members and active-duty military spouses will also be recruited from a frame provided by the Department of Defense. In the pilot, potential panelists will be mailed invitations and asked to participate in an online or inbound telephone screener. If the household qualifies, two members will be randomly sampled and invited to join the panel by completing the baseline questionnaire in the same mode (online or inbound telephone). Households who do not respond to the mailed invitation will be in sample for a face-to-face nonresponse follow up. In these cases, an interviewer would administer the screener and the baseline questionnaire. Participating households who do not have stable internet access will be offered a tablet device with cell service for the duration of the panel to facilitate participation. Panelists will be eligible for online topical surveys no more than once a month once they join the panel for up to 3 years.

These methods may be refined between the pilot and the build-out of the panel.

III. Data

OMB Control Number: 0607-XXXX.

Form Number(s): Not yet determined.

Type of Review: Regular submission, New Information Collection Request.

Affected Public: Individuals or households.

Estimated Number of Respondents: 2022: 1,700; 2023: 17,000; 2024: 17,000.

Estimated Time Per Response: 2022: 2 hours per respondent; 2023: 4 hours per respondent; 2024: 4 hours per respondent.

Estimated Total Annual Burden Hours: 2022: 3,400 hours; 2023: 68,000 hours; 2024: 68,000 hours.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: The Panel is being developed under a cooperative agreement awarded by the Census Bureau pursuant to the Consolidated Appropriations Act of 2021, Public Law 116-260, section 110. Data collection from the Panel for Census Bureau sponsored surveys is authorized by Title 13, Sections, 131, 141, 161, 181, 182, 193, and 301. Data collection from the Panel for surveys sponsored by other agencies is authorized by 13 U.S.C. 8(b), where the Census Bureau is the collection agent, 44 U.S. Code 3509, where OMB can direct data collection, and the various U.S. Code titles that authorize those agencies to collect information, including but not limited to title 49, section 329 for Bureau of Transportation Statistics collections, and the Education Sciences Reform Act of 2002 (ESRA 2002, 20 U.S.C. 9543) for National Center for Education Statistics surveys.

The confidentiality of information collected on topical surveys in this panel is assured by CIPSEA, Title 13 United States Code, or other applicable titles which authorize the collection of information.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-26515 Filed 12-6-21; 8:45 am]

BILLING CODE 3510-07-P